GENERAL SERVICES ADMINISTRATION

Notice of Availability of the Draft Environmental Impact Statement (DEIS) For the Future Master Plan Development for the Centers for Disease Control (CDC) in Chamblee, GA

Pursuant to the requirements of the National Environmental Policy Act (NEPA) of 1969, and the President's Council on Environmental Quality Regulations (40 CFR 1500-1508), as implemented by General Services Administration (GSA) Order PBS P 1095.4D, GSA announces the availability of the Draft Environmental Impact Statement (DEIS) for the master plan and the proposed development and future build out for the CDC in Chamblee, Georgia. The proposed action includes the expansion of facilities and will include additional buildings, parking structures, and infrastructure on Government-owned property located in Chamblee located south of Tucker Road between Peachtree Dekalb Airport and Buford Highway. The DEIS examines the impacts of this proposed development on the natural and human environment to include impacts to wetlands, floodplains, traffic, and other potential impacts identified by the community through the scoping process.

The DEIS addresses the potential impacts of two alternatives: The Proposed Action (Development Alternative), and No-Action Alternative (meet facility requirements without full development on site). A public meeting has been scheduled for the evening of Monday April 29th at the Chamblee community center at 6 p.m. GSA has solicited community input throughout this process, and will incorporate community comments into the decision process. As part of the public process, GSA solicits comments in writing at the following address: Mr. Phil Youngberg, Environmental Manager (4PT), General Services Administration (GSA), 77 Forsyth Street, Suite 450, Atlanta, GA 30303, or FAX: Mr. Phil Youngberg at 404-562-0790. Comments should be submitted in writing no later than May 15, 2002.

Dated: April 2, 2002.
Phil Youngberg,
Environmental Manager.

[FR Doc. 02-8757 Filed 4-10-02; 8:45 am]

BILLING CODE 6820-23-M